DEPARTMENT OF THE INTERIOR

Bureau of Reclamation

Agency Information Collection Activities Under OMB Review; Comment Request

AGENCY: Bureau of Reclamation, Interior.

ACTION: Notice and request for comments.

SUMMARY: In accordance with the Paperwork Reduction Act of 1995 (44 U.S.C. 3501 et seq.), this notice announces the following Information Collection Request (ICR) has been forwarded to the Office of Management and Budget (OMB) for review and approval: Recreation Visitor Use Surveys, Bureau of Reclamation, 17 Western States. The ICR describes the nature of the information collection and its expected cost burden.

DATES: OMB has up to 60 days to approve or disapprove this information collection, but may respond after 30 days; therefore, public comment must be received on or before March 26, 2008.

ADDRESSES: Please send your comments to the Desk Officer for the Department of the Interior at the Office of Management and Budget, Office of Information and Regulatory Affairs, via facsimile to (202) 395-6566 or e-mail to OIRA_DOCKET@omb.eop.gov. A copy of your comments should also be directed to the Bureau of Reclamation, Attention: Darrell Welch (84-53000), PO Box 25007, Denver, CO 80225-0007 or directed via e-mail to dwelch@do.usbr.gov. Please reference OMB No. 1006-NEW in your comments.

FOR FURTHER INFORMATION CONTACT: For further information or a copy of the proposed forms contact Darrell Welch at the above address, or at (303) 445-2711.

SUPPLEMENTARY INFORMATION: Title: Recreation Visitor Use Surveys.

Abstract: The Bureau of Reclamation is responsible for recreation development at all of its reservoirs. Presently there are 300 designated recreation areas on our lands within the 17 Western States hosting almost 90 million visitors annually. Visitation to our reservoirs is increasing at an average rate of 1.2 million visitors per year, and more than 100 million people are projected to visit our reservoirs by the early twenty-first century. We must be able to respond to emerging trends, changes in the demographic profile of users, changing values, needs, wants, and desires, and conflicts between user groups. Statistically valid and up-to-date data derived from the user is essential to developing and providing recreation programs relevant to today's visitor.

The required 60-day comment period was initiated by a notice published in the Federal Register on March 5, 2007 (72 FR 9775). No comments were received in response to the 60-day comment period.

Frequency: One time survey.

Respondents: Respondents to the surveys will be members of the public engaged in recreational activities on our lands. The surveys target people engaged in specific activities such as boating on a specific lake/river, or people camping at a developed campground. Visitors will primarily consist of local residents, people from large metropolitan areas in the vicinity of the lake/river, and visitors from out of state.

Estimated Total Number of Respondents: 7,350.

Estimated Number of Responses per Respondent: 1.0.

Estimated Total Number of Annual Responses: 7,350.

Estimate Total Annual Burden on Respondents: 2,059.

Estimate of Hour Burden for Each Survey Form
Survey instrument | Burden estimate per survey (in minutes) | Number of surveys (times/yr.) | Number of respondents per survey | Total estimated number of respondents | Total annual hour burden
Marina Survey | 15 | 2 | 278 | 556 | 139
Campground Survey | 25 | 2 | 278 | 556 | 232
River Instream Flow Survey | 20 | 2 | 278 | 556 | 185
Reservoir Preferred Water Level Survey | 20 | 2 | 278 | 556 | 185
Lake/River Visit Expenditure Survey | 10 | 2 | 278 | 556 | 93
Recreation Activities Survey | 20 | 2 | 278 | 556 | 185
Recreation Management Survey | 15 | 2 | 278 | 556 | 139
Recreation Fee Survey | 10 | 1 | 400 | 400 | 67
Recreation Development Survey | 10 | 2 | 278 | 556 | 93
Water Level Impacts on Recreation Boating Use | 15 | 2 | 278 | 556 | 139
River Recreation Quality Survey | 15 | 2 | 278 | 556 | 139
Customized Surveys | 20 | 5 | 278 | 1,390 | 463
Totals |  |  |  | 7,350 | 2,059

In addition to calculating the annual hour burden for respondents, we have calculated that the annual hour burden for the estimated 1,850 non-respondents (i.e., those individuals who receive a survey, but do not wish to fill it out for one reason or another) is 15 hours. Therefore, the total annual hour burden to the public is 2074.

Comments:

Comments are invited on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

Before including your address, phone number, e-mail address, or other personal identifying information in your comment, you should be aware that your entire comment—including your personal identifying information—may be made publicly available at any time. While you can ask us in your comment to withhold your personal identifying information from public review, we cannot guarantee that we will be able to do so.

Dated: February 18, 2008.
Roseann Gonzales,
Director, Office of Program and Policy Services.

[FR Doc. E8-3466 Filed 2-22-08; 8:45 am]

BILLING CODE 4310-MN-P